DEPARTMENT OF HOMELAND SECURITY

I&A Request Customer Survey

AGENCY: Department of Homeland Security, Office of Intelligence and Analysis.

ACTION: 60-Day Notice and request for comments; New Information Collection Request.

SUMMARY: The Department of Homeland Security, Office of Intelligence and Analysis, has submitted the following Information Collection Request (ICR) to the Office of Management and Budget (OMB) for review and clearance in accordance with the Paperwork Reduction Act of 1995 (Pub. L. 104-13, 44 U.S.C. Chapter 35).

DATES: Comments are encouraged and will be accepted until November 24, 2009. This process is conducted in accordance with 5 CFR 1320.1.

ADDRESSES: Written comments and questions about this Information Collection Request should be forwarded to Office of Intelligence and Analysis, Attn.: Jason Clark, 202-447-3140.

SUPPLEMENTARY INFORMATION: The Implementing Recommendations of the 9/11 Commission act of 2007 (Pub. L. 110-53) identifies the U/SIA as having the primary Federal responsibility for outreach and sharing threat related information and intelligence with State, local and tribal officials (S&L). Section 511 of the 9/11 Act with regards to consumer feedback requires I&A to create a voluntary mechanism for any State, local, tribal law enforcement officer or other emergency response provider who is a consumer of the intelligence or other information products of I&A to provide feedback to the Department on quality and utility of such intelligence products. This is new collection for a pilot program. I&A Managers will use the survey results to establish exactly who within our S&L target audience our products are reaching and to generally gauge and make improvements to intelligence products that increase customer satisfaction and program effectiveness. The results of the customer satisfaction surveys will be shared with DHS HQ, I&A, and as mandated by section 511 of the 9/11 act presented to the Committee on Homeland Security and Governmental Affairs of the Senate and the Committee on Homeland Security of the House of Representatives.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, Office of Intelligence and Analysis.

Title: I&A Customer Survey.

Form: DHS Form 6001.

OMB Number: 1601-NEW.

Frequency: Annually.

Affected Public: State, Local or Tribal Government.

Number of Respondents: 144.

Estimated Number of Responses per Respondent: 25.

Estimated Time per Respondent: 2 minutes.

Total Burden Hours: 120 annual burden hours.

Margaret H. Graves,
Acting Chief Information Officer.

[FR Doc. E9-23244 Filed 9-24-09; 8:45 am]

BILLING CODE 9110-9N-P